ENVIRONMENTAL PROTECTION AGENCY

40 CFR Part 300

[EPA-R04-SFUND-2006-0228; FRL-8188-1]

National Oil and Hazardous Substances Pollution Contingency Plan; National Priorities List

AGENCY: Environmental Protection Agency (EPA).

ACTION: Direct final notice of deletion of Davie Landfill Superfund Site from the National Priorities list.

SUMMARY: EPA Region 4 is publishing a direct final notice of deletion of the Davie Landfill, Superfund Site (Site), located in Davie, Florida, from the National Priorities List (NPL). The NPL, promulgated pursuant to section 105 of the Comprehensive Environmental Response, Compensation, and Liability Act (CERCLA) of 1980, as amended, is appendix B of 40 CFR part 300, which is the National Oil and Hazardous Substances Pollution Contingency Plan (NCP). This direct final notice of deletion is being published by EPA with the concurrence of the State of Florida, through the Florida Department of Environmental Protection (FDEP) because EPA has determined that all appropriate response actions under CERCLA have been completed and, therefore, further remedial action pursuant to CERCLA is not appropriate.

DATES: This direct final notice is effective August 21, 2006 without further notice, unless EPA receives adverse comment by July 24, 2006. If adverse comment is received, EPA will publish a timely withdrawal of the direct final notice in the Federal Register and inform the public that the notice will not take effect.

ADDRESSES: Submit your comments, identified by EPA-R04-SFUND-2006-0228, by one of the following methods:

1. http://www.regulations.gov: Follow the on-line instructions for submitting comments.

2. E-mail: martin.scott@epa.gov

3. Fax: (404) 562-8896.

4. Mail: “EPA-R04-SFUND-2006-0228”, Superfund Remedial Section C, Superfund Remedial & Technical Services Branch, Waste Management Division, U.S. Environmental Protection Agency, Region 4, 61 Forsyth Street, SW., Atlanta, Georgia 30303-8960.

5. Hand Delivery or Courier: Scott M. Martin, Remedial Project Manager, Superfund Remedial Section C, Superfund Remedial & Technical Services Branch, Waste Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to EPA-R04-SFUND-2006-0228. EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Superfund Remedial Section C, Superfund Remedial & Technical Services Branch, Waste Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30 excluding legal holidays.

Comprehensive information on this Site is available through the Region 4 public docket, which is available for viewing at the Davie Landfill Site information repositories at two locations. Locations, contacts, phone numbers and viewing hours are:

Davie Landfill Site Repository, Broward County Main Public Library, 100 S. Andrews Ave., Level 5, Ft. Lauderdale, Florida 33301.

U.S. EPA Record Center, attn: Ms. Debbie Jourdan, Atlanta Federal Center, 61 Forsyth Street, SW., Atlanta, Georgia 30303-8960, Phone: (404) 562-8862, Hours 8 a.m. to 4 p.m., Monday through Friday by appointment only.

FOR FURTHER INFORMATION CONTACT: Scott M. Martin, Remedial Project Manager, Superfund Remedial Section C, Superfund Remedial & Technical Services Branch, Waste Management Division, U.S. Environmental Protection Agency, Region 4, 61 Forsyth Street, SW., Atlanta, Georgia 30303-8960. The telephone number is (404) 562-8916. Mr. Martin can also be reached via electronic mail at martin.scott@epa.gov.

SUPPLEMENTARY INFORMATION:

Table of Contents

I. Introduction

II. NPL Deletion Criteria

III. Deletion Procedures

IV. Basis for Site Deletion

V. Deletion Action

I. Introduction

EPA Region 4 is publishing this direct final notice of deletion of the Davie Landfill Superfund Site from the NPL.

The EPA identifies Sites that appear to present a significant risk to public health or the environment and maintains the NPL as the list of those Sites. As described in the Section 300.425(e)(3) of the NCP, Sites deleted from the NPL remain eligible for remedial actions if conditions at a deleted Site warrant such action.

Section II of this document explains the criteria for deleting Sites from the NPL. Section III discusses procedures that EPA is using for this action. Section IV discusses the Davie Landfill Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a Site from the NPL, EPA shall consider, in consultation with the State, whether any of the following criteria have been met:

i. Responsible parties or other persons have implemented all appropriate response actions required;

ii. All appropriate Fund-financed (Hazardous Substance Superfund) response under CERCLA has been implemented, and no further response action by responsible parties is appropriate; or

iii. The remedial investigation has shown that the release poses no significant threat to public health or the environment and, therefore, the taking of remedial measures is not appropriate.

Even if a Site is deleted from the NPL, where hazardous substances, pollutants, or contaminants remain at the deleted Site above levels that allow for unlimited use and unrestricted exposure, CERCLA section 121(c), 42 U.S.C. 9621(c) requires that a subsequent review of the Site be conducted at least every five years after the initiation of the remedial action at the deleted Site to ensure that the action remains protective of public health and the environment. If new information becomes available which indicates a need for further action, EPA may initiate remedial actions. Whenever there is a significant release from a Site deleted from the NPL, the deleted Site may be restored to the NPL without application of the hazard ranking system.

III. Deletion Procedures

The following procedures apply to deletion of the Site:

(1) The EPA consulted with the State of Florida on the deletion of the Site from the NPL prior to developing this direct final notice of deletion.

(2) Florida concurred with deletion of the Site from the NPL.

(3) Concurrently with the publication of this direct final notice of deletion, a notice of the availability of the parallel notice of intent to delete published today in the “Proposed Rules” section of the Federal Register is being published in a major local newspaper of general circulation at or near the Site and is being distributed to appropriate federal, state, and local government officials and other interested parties; the newspaper notice announces the 30-day public comment period concerning the notice of intent to delete the Site from the NPL.

(4) The EPA placed copies of documents supporting the deletion in the Site information repositories identified above.

(5) If adverse comments are received within the 30-day public comment period on this document, EPA will publish a timely notice of withdrawal of this direct final notice of deletion before its effective date and will prepare a response to comments and continue with the deletion process on the basis of the notice of intent to delete and the comments already received.

Deletion of a Site from the NPL does not itself create, alter, or revoke any individual's rights or obligations. Deletion of a Site from the NPL does not in any way alter EPA's right to take enforcement actions, as appropriate. The NPL is designed primarily for informational purposes and to assist EPA management. Section 300.425(e)(3) of the NCP states that the deletion of a Site from the NPL does not preclude eligibility for future response actions, should future conditions warrant such actions.

IV. Basis for Site Deletion

The following information provides EPA's rationale for deleting the Site from the NPL:

Site Location

Davie Landfill Superfund Site, 4001 SW. 142nd Avenue, Broward County, Davie, Florida 33314. EPA ID: FLD980602288.

Site History

The Davie Landfill Site, located at 4001 SW. 142nd Avenue in Davie, Florida, is a 209 acre parcel of land that includes a 48 acre Class I landfill (north mound) and a 68 acre Class III landfill (south mound). The Site is situated in an area that previously has been mainly rural and agricultural but is quickly being developed into a residential area. The landfill began operation in 1964 with the startup of the county's garbage incinerator. Ash from the incinerator, construction debris, and demolition debris, were placed in the landfill. In 1975, the incinerator was closed because its emissions failed to meet new air regulations. At that time, a sanitary landfill was constructed for disposal of municipal solid waste. The sanitary landfill also accepted construction debris, tires, and other wastes. Between 1971 and 1981, a basin area at the landfill was used for the disposal of grease trap material, septic tank sludge and treated municipal sludge. The Site was proposed for the NPL on December 30, 1982. A portion of the Site (approximately 160 acres) was converted to a Broward County regional park, known as Vista View Park, which opened to the public on July 12, 2003.

Remedial Investigation and Feasibility Study (RI/FS)

Operable Unit (OU) 1

The initial Remedial Investigation (RI) was conducted between January 1983 and September 1985, and focused mainly on the sludge disposal area. The RI report confirmed that cyanide and sulfide were present in the sludge in the basin area. All landfill activities ceased in December 1987, and Broward County began the closeout of the landfill. EPA then released a Feasibility Study (FS) which concluded that the Site could pose a potential health threat to the public through dermal contact with the contaminated soil in the sludge disposal area. No activities using removal authority were conducted at this Site.

Operable Unit 2

In 1988, the Broward County Public Health Unit found vinyl chloride contamination in private wells south of the Site. In the early 1990's, further sampling by Broward County confirmed that vinyl chloride and antimony had contaminated the groundwater in the area. Therefore, another RI was conducted at the Site between March 1992 and August 1994. Antimony and vinyl chloride were detected at levels above their respective drinking water standards. The final RI report summarized all Site analyses results. EPA released an FS which concluded that the Site could pose a potential health threat to the public through ingestion of groundwater contaminated with antimony and vinyl chloride. The FS provided a detailed analysis of monitored natural attenuation and pump and treat remedial alternatives.

Record of Decision Findings

Operable Unit 1

On September 30, 1985, EPA issued a Record of Decision (ROD) which selected excavation of all contaminated soil in the sludge disposal area, on-Site treatment of the contaminated soil via stabilization, and then disposal of the stabilized soil in Cell Number 14 of the landfill.

Operable Unit 2

On August 11, 1994, EPA issued a ROD which selected monitored natural attenuation to address the antimony and vinyl chloride contamination in the groundwater. In addition, the ROD required the monitoring of area residential wells to determine the impact of Site related groundwater contamination and the extension of public water supply connections to residents whose private wells had been impacted. The State of Florida's drinking water standards for antimony and vinyl chloride were selected as the cleanup standards.

Response Actions

Operable Unit 1

On June 30, 1988, a Cooperative Agreement was awarded to the Broward County Board of Commissioners for partial funding of the remediation of the sludge lagoon portion of the Site. Pursuant to the ROD and the Cooperative Agreement, Broward County performed the remediation of the sludge lagoon, which was completed in July 1989.

The excavation, dewatering and stabilization of the lagoon sludge began on April 15, 1989. Dry and wet sludge materials were mixed to create a uniform mixture for stabilization. Type I Portland cement was then added to the mixture, as necessary, to stabilize the material and to remove any remaining free moisture. The stabilized material was loaded onto dump trucks and hauled to Cell Number 14 of the sanitary landfill for disposal. A total of 82,158 cubic yards of sludge were excavated, stabilized and disposed. Sludge was also encountered and removed from the eastern slope of the trash landfill and the dike areas and concrete off-loading ramp associated with the sludge lagoon. Sludge removal and stabilization activities were completed in May 1989.

Excavation of unsuitable material around the sludge lagoon was performed concurrently with the sludge excavation activities. These materials included trash, construction materials and other debris used in the construction of the dike surrounding the sludge lagoon. A total of 57,626 cubic yards of unsuitable material were excavated from the area. These materials were disposed of in either Cell Number 14 or the sanitary landfill or the trash landfill, as required. Excavation of the unsuitable material was completed in July 1989.

Final grading of the sludge lagoon occurred in June 1989. This included the creation of a water channel connecting the newly excavated nature pond (former sludge lagoon) and Borrow Pit Number 2. The nature pond was created during the excavation and removal of the foundation material. Based on the satisfactory analytical results of compoSite surface water samples collected from the newly constructed nature pond, excavation of the connecting channel between the new nature pond and Borrow Pit Number 2 was completed in July 1989.

Construction of the final cover for Cell Number 14 of the sanitary landfill began on July 25, 1989, and was completed on August 8, 1989. A total of 31,969 tons of limerock were used as landfill cover material. Two lifts of material, 1-foot thick, were spread and compacted to an in-place density of at least 98%. The final cover was sloped at a 2% grade towards the southwest corner of the sanitary landfill.

Operable Unit 2

In 1988, Broward County extended public water lines to the area of Sunshine Ranches between Griffin Road and Palomino Drive (north and south boundaries) and between Volunteer Road and Hancock Road (west and east boundaries). In 1994, the water line was extended 300 feet east of Hancock Road on East Palomino Drive.

EPA determined that the groundwater sampling data collected as part of the FDEP landfill closure permit would provide all information necessary to monitor the progress of natural attenuation. This required the semiannual monitoring of seven groundwater monitoring well clusters. Therefore, because execution of the remedial design for groundwater did not require any major construction activities, the remedial action at the Site was determined to be operational and functional on October 18, 1995.

Cleanup Standards

Operable Unit 1

As part of the 1985 ROD, residual soil cleanup goals were established for lead, chromium, cadmium, arsenic and mercury. In May 1989, thirty-nine foundation material samples from seven sampling Sites were obtained and submitted for analysis to determine the effectiveness of the sludge lagoon cleanup activities. The result of the analysis indicated that all but two sample locations revealed concentrations below the soil cleanup goals. The two said sample locations revealed marginal exceedances of the soil cleanup goals for arsenic. The areas surrounding these sampling locations were further excavated. Surface scraping of the lagoon area was performed along with the excavation of the foundation materials. A total of 23,400 cubic yards of material were excavated and disposed of in Cell Number 14 of the sanitary landfill. These activities were completed in June 1989.

Operable Unit 2

The natural attenuation monitoring plan required the semiannual monitoring of seven groundwater monitoring well clusters. The ROD requires one year of meeting cleanup standards to demonstrate completion. From September 2000 until September 2003, groundwater data indicated that groundwater cleanup standards for vinyl chloride and antimony had been achieved.

Operation and Maintenance

Broward County will conduct all the Operation and Maintenance (O&M) activities at the Site. Since the Site is an officially closed landfill, the operation and maintenance requirements of the Post-Closure landfill closure permit will require the continued monitoring of the seven groundwater monitoring well clusters, maintenance of the landfill cover, stormwater/surface water management, biweekly inspection of the leachate liner, and maintenance of the sanitary landfill gas collection and control system. Additionally, the Site has been converted into a Broward County park and will be maintained accordingly. The current estimated annual operations and maintenance cost is $250,000.

Five-Year Review

This Site meets all the Site completion requirements as specified in Office of Solid Waste and Emergency Response (OSWER) Directive 9320.2-09-A-P, Close Out Procedures for National Priorities List Sites. Specifically, confirmatory sampling verifies that the Site has achieved the ROD cleanup standards specified in both the OU1 and OU2 RODs, and that all cleanup actions specified in the ROD have been implemented. The only remaining activity to be performed is O&M that Broward County will conduct.

Because hazardous materials remain at the Site inside the landfill above levels that allow for unlimited use and unrestricted exposure, Section 121 of CERCLA requires ongoing statutory review to be conducted no less than every five years from the start of remedial actions. The first five-year review was conducted in March 1994, and the second was conducted in May 2000. These reviews concluded that the selected remedy remains protective of human health and the environment.

Community Involvement

Public participation activities have been satisfied as required in CERCLA section 113(k), 42 U.S.C. 9613(k), and CERCLA section 117, 42 U.S.C. 9617. Documents in the deletion docket which EPA relied on for recommendation of the deletion from the NPL are available to the public in the information repositories.

All basic requirements for public participation under CERCLA were met in both remedy selection processes. Because the Site is located in a residential area, community relations activities were focused on communication between the residents in the affected community and the government agencies. Special attention was directed toward keeping the community informed of all study results. Meetings were held with the Town of Davie officials and availability sessions were held with the community. Because the area is rapidly changing from small horse farms and agricultural to more high density residential, EPA continues to provide active community relations by publishing fact sheets and answering calls and e-mails from people who are considering purchasing a new home in the area.

V. Deletion Action

The EPA, with concurrence of the State of Florida, has determined that all appropriate responses under CERCLA have been completed, and that no further response actions, under CERCLA, other than O&M and five-year reviews, are necessary. Therefore, EPA is deleting the Site from the NPL.

Because EPA considers this action to be noncontroversial and routine, EPA is taking it without prior publication. This action will be effective August 21, 2006 unless EPA receives adverse comments by July 24, 2006. If adverse comments are received within the 30-day public comment period, EPA will publish a timely withdrawal of this direct final notice of deletion before the effective date of the deletion and it will not take effect and, EPA will prepare a response to comments and continue with the deletion process on the basis of the notice of intent to delete and the comments already received. There will be no additional opportunity to comment.

List of Subjects in 40 CFR Part 300

Environmental protection, Chemicals, Hazardous waste, Hazardous substances, Superfund, Water pollution control, Water supply.

Dated: June 8, 2006.
A. Stanley Meiburg,
Acting Regional Administrator, Region 4.

40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of Appendix B to part 300 is amended by removing the Site Davie Landfill, Davie, Florida.

[FR Doc. 06-5595 Filed 6-21-06; 8:45 am]

BILLING CODE 6560-50-P